DEPARTMENT OF COMMERCE

Foreign-Trade Zones Board

[Docket 13-2002]

Foreign-Trade Zone 27—Boston, Massachusetts; Application for Subzone; Reebok International, Ltd., (Distribution of Footwear), Lancaster, Stoughton and Norwood, Massachusetts

An application has been submitted to the Foreign-Trade Zones Board (the Board) by the Massachusetts Port Authority, grantee of FTZ 27, requesting special-purpose subzone status for the warehousing facilities of Reebok International, Ltd. (Reebok), located in Lancaster, Stoughton and Norwood, Massachusetts. The application was submitted pursuant to the provisions of the Foreign-Trade Zones Act, as amended (19 U.S.C. 81a-81u), and the regulations of the Board (15 CFR part 400). It was formally filed on February 7, 2002.

The Reebok facility is comprised of three sites with some 450 employees in Norfolk and Worcester County, Massachusetts: Site 1 (34 acres, 485,000 square feet)—located at 100 Technology Center Drive, Stoughton, Norfolk County; Site 2 (55 acres, 212,000 square feet)—located at 625 University Avenue, Norwood, Norfolk County; and Site 3 (137 acres, 285,000 square feet)—located at 580 Fort Pond Road, Lancaster, Worcester County. The facilities are used for the storage and distribution of imported footwear (primarily HTS 6402.19, 6402.91, 6402.99, 6403.19, 6403.91, 6403.99, 6404.11, 6405.10, and 6406.99, duty rate ranges from duty-free to 48%).

Zone procedures would exempt Reebok from Customs duty payments on products that are reexported. On its domestic sales, the company would be able to defer duty payments until merchandise is shipped from the plant and entered for consumption. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230. The closing period for their receipt is April 16, 2002. Rebuttal comments in response to material submitted during the foregoing period may be submitted during the subsequent 15-day period (to May 1, 2002).

A copy of the application and accompanying exhibits will be available for public inspection at the Office of the Foreign-Trade Zones Board's Executive Secretary at the first address listed above, and at the U.S. Department of Commerce Export Assistance Center, World Trade Center, Suite 307, 200 Seaport Avenue, Boston, MA 02210.

Dated: February 8, 2002.
Dennis Puccinelli,
Executive Secretary.

[FR Doc. 02-3813 Filed 2-14-02; 8:45 am]

BILLING CODE 3510-DS-P